DEPARTMENT OF COMMERCE

International Trade Administration

(A 351-840)

Antidumping Duty Order: Certain Orange Juice from Brazil

AGENCY: Import Administration, International Trade Administration, Department of Commerce.

EFFECTIVE DATE: March 9, 2006.

FOR FURTHER INFORMATION CONTACT: Elizabeth Eastwood or Jill Pollack, AD/CVD Operations, Office 2, Import Administration, International Trade Administration, U.S. Department of Commerce, 14th Street and Constitution Avenue, NW, Washington, DC 20230; telephone (202) 482-3874 or (202) 482-4593, respectively.

SUPPLEMENTARY INFORMATION:

Scope of Order

The scope of this order includes certain orange juice for transport and/or further manufacturing, produced in two different forms: (1) Frozen orange juice in a highly concentrated form, sometimes referred to as frozen concentrated orange juice for manufacture (FCOJM); and (2) pasteurized single-strength orange juice which has not been concentrated, referred to as not-from-concentrate (NFC). At the time of the filing of the petition, there was an existing antidumping duty order on frozen concentrated orange juice (FCOJ) from Brazil. See Antidumping Duty Order; Frozen Concentrated Orange Juice from Brazil, 52 FR 16426 (May 5, 1987). Therefore, the scope of this order with regard to FCOJM covers only FCOJM produced and/or exported by those companies which were excluded or revoked from the pre-existing antidumping order on FCOJ from Brazil as of December 27, 2004. Those companies are Cargill Citrus Limitada (Cargill), Coinbra-Frutesp S.A. (Coinbra-Frutesp), Sucocitrico Cutrale, S.A. (Cutrale), Fischer S/A - Agroindustria (Fischer), and Montecitrus Trading S.A. (Montecitrus).

Excluded from the scope of the order are reconstituted orange juice and frozen concentrated orange juice for retail (FCOJR). Reconstituted orange juice is produced through further manufacture of FCOJM, by adding water, oils and essences to the orange juice concentrate. FCOJR is concentrated orange juice, typically at 42° Brix, in a frozen state, packed in retail-sized containers ready for sale to consumers. FCOJR, a finished consumer product, is produced through further manufacture of FCOJM, a bulk manufacturer's product. The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of this order is dispositive.

Antidumping Duty Order

On February 27, 2006, the International Trade Commission (the ITC) notified the Department of Commerce (the Department) of its final determination pursuant to section 735(b)(1)(A)(i) of the Tariff Act of 1930, as amended (the Act), that the industry in the United States producing certain orange juice is materially injured by reason of less-than-fair-value imports of subject merchandise from Brazil. In addition, the ITC notified the Department of its final determination that critical circumstances do not exist with respect to imports of subject merchandise from Brazil that are subject to the Department's partial affirmative critical circumstances finding. Therefore, in accordance with section 736(a)(1) of the Act, the Department will direct U.S. Customs and Border Protection (CBP) to assess, upon further advice by the Department, antidumping duties equal to the amount by which the normal value of the merchandise exceeds the U.S. price of the merchandise for all relevant entries of certain orange juice from Brazil. These antidumping duties will be assessed on all unliquidated entries of certain orange juice from Brazil entered, or withdrawn from the warehouse, for consumption on or after August 24, 2005, the date on which the Department published its Notice of Preliminary Determination of Sales at Less Than Fair Value, Postponement of Final Determination, and Affirmative Preliminary Critical Circumstances Determination: Certain Orange Juice from Brazil, 70 FR 49557 (Aug. 24, 2005). With regard to the ITC negative critical circumstances determination, we will instruct CBP to lift suspension and to release any bond or other security, and refund any cash deposit made, to secure the payment of antidumping duties with respect to entries of the merchandise entered, or withdrawn from warehouse, for consumption on or after May 26, 2005 (i.e., 90 days prior to the date of publication of the preliminary determination in the Federal Register), but before August 24, 2005.

Section 733(d) of the Act states that instructions issued pursuant to an affirmative preliminary determination may not remain in effect for more than four months except where exporters representing a significant proportion of exports of the subject merchandise extend that four-month period to not more than six months. In this investigation, the six-month period beginning on the date of the publication of the preliminary determination ended on February 19, 2006. Furthermore, section 737 of the Act states that definitive duties are to begin on the date of publication of the ITC's final injury determination. Therefore, in accordance with section 733(d) of the Act and our practice, we instructed CBP to terminate the suspension of liquidation and to liquidate, without regard to antidumping duties, unliquidated entries of certain orange juice from Brazil entered, or withdrawn from warehouse, for consumption on or after February 19, 2006, and before the date of publication of the ITC's final injury determination in the Federal Register. See Antidumping Duty Order: Certain Color Television Receivers From the People's Republic of China, 69 FR 31347 (June 3, 2004). Suspension of liquidation will continue on or after this date.

On or after the date of publication of the ITC's notice of final determination in the Federal Register, CBP will require, at the same time as importers would normally deposit estimated duties on this merchandise, cash deposits for the subject merchandise equal to the estimated weighted-average antidumping duty margins listed below. We will also instruct CBP that, for NFC, the “All Others” rate applies to all companies not specifically named below. However, for FCOJM, the “All Others” rate only applies to FCOJM produced and/or exported by Cargill and Coinbra-Frutesp.

Manufacturer/Exporter | Weighted-Average Margin (percent)
Fischer S/A - Agroindustria | 12.46
Montecitrus Trading S.A. | 60.29
Sucocitrico Cutrale, S.A. | 19.19
All Others | 16.51

This notice constitutes the antidumping duty order with respect to certain orange juice from Brazil, pursuant to section 736(a) of the Act. Interested parties may contact the Department's Central Records Unit, Room B-099 of the main Commerce building, for copies of an updated list of antidumping duty orders currently in effect.

This order is published in accordance with section 736(a) of the Act and 19 CFR 351.211.

Dated: February 28, 2006.
David M. Spooner,
Assistant Secretary.

[FR Doc. E6-3364 Filed 3-8-06; 8:45 am]

BILLING CODE 3510-DS-S